DEPARTMENT OF DEFENSE

Department of the Army; Corps of Engineers

Intent To Prepare a Draft Environmental Impact Statement for the Reopening of an Idle Open Pit Taconite Mine and Construction and Operation of a Taconite Ore Concentration Plant Proposed by Mesabi Mining, LLC and Steel Dynamics, Inc. (Collectively, the Applicant) Near Aurora and Hoyt Lakes in St. Louis County, MN

AGENCY: Department of the Army, U.S. Army Corps of Engineers, DOD.

ACTION: Notice of intent.

SUMMARY: Mesabi Mining, LLC and Steel Dynamics, Inc. have applied to the St. Paul District, Corps of Engineers (Corps) for a Clean Water Act Section 404 permit to discharge fill material into jurisdictional wetlands to facilitate the reopening of an open pit taconite mine and construction and operation of a taconite ore concentration plant near Aurora and Hoyt Lakes in St. Louis County, MN. Tailings would be discharged into an existing, idle open pit mine. The proposed project is known as the Mesabi Nugget Phase II Project. The project would be located entirely on portions of the site of the former LTV Steel Mining Company Facility (also known as Erie Mining Company prior to 1986). Taconite mining was conducted at the site from the late 1950s until operations ceased in early 2001. Prior to taconite mining, the area was also mined for natural iron ore in nearby pits as early as 1903. Mesabi Mining now proposes to reopen and mine taconite ore from two open pits, haul the ore in trucks to a proposed new processing plant where the ore would be crushed, ground, magnetically separated, and then passed through a flotation circuit to produce a concentrate. About one-third of the concentrate (approximately 1.04 million metric tonnes per year) would be used as feed for Mesabi Nugget Delaware's on-site Large Scale Demonstration Project (LSDP) iron nugget facility that was permitted in 2005 and will be ready for operation in the second quarter of 2009. The remainder of the concentrate (approximately 2.09 million metric tonnes per year) would be shipped by rail for use in other facilities. The mining process would require the construction of overburden and waste rock, and lean ore stockpiles adjacent to the open pits. The project would operate 24 hours per day; 365 days per year during its proposed 20-year life. The project area would be approximately 4,760 acres, of which approximately 3,820 acres (80 percent) has previously been disturbed by mining activities.

The project would require the discharge of fill material into approximately 235 acres of wetlands. While some of the wetlands may be isolated, the majority of the wetlands are abutting Second Creek (a tributary to the Partridge River) or an unnamed tributary (Unnamed Creek) to the Partridge River. The Partridge River is a tributary to the St. Louis River, which is navigable water of the United States up to the mouth of the Embarrass River. The Applicant proposes to develop a detailed compensatory wetland mitigation plan for inclusion in the Draft Environmental Impact Statement (DEIS) to provide compensation for the unavoidable wetland impacts planned during at least the first five years of the project. Conceptual wetland mitigation plans will be developed for inclusion in the DEIS to provide compensation for the unavoidable wetland impacts planned during the remainder of the project (years six through twenty). The discharge of dredged or fill material into waters of the United States requires a permit issued by the Corps under Section 404 of the Clean Water Act. The Final Environmental Impact Statement (FEIS) will be used as a basis for the permit decision and to ensure compliance with the National Environmental Policy Act (NEPA).

ADDRESSES: Questions concerning the DEIS can be addressed to Mr. Jon K. Ahlness, Regulatory Branch by letter at U.S. Army Corps of Engineers, 190 Fifth Street East, Suite 401, St. Paul, MN 55101-1638, by telephone or by e-mail at jon.k.ahlness@usace.army.mil.

FOR FURTHER INFORMATION CONTACT: Mr. Jon K. Ahlness, (651) 290-5381.

SUPPLEMENTARY INFORMATION: The Corps and the State of Minnesota will jointly prepare the DEIS. The Corps is the lead federal agency and the Minnesota Department of Natural Resources (MnDNR) is the lead state agency. To determine issues to be addressed in the DEIS, a scoping process will be conducted. The MnDNR, with assistance from the Corps, will prepare and release to the public a Draft Scoping Decision Document (Draft SDD) and a Scoping Environmental Assessment Worksheet (SEAW). Federal, state, and local agencies; the general public; interested private organizations and parties; and affected Native American tribes will have 30 days to provide comments on those two documents. During the 30-day public comment period, the Corps and the MnDNR will jointly conduct a public scoping meeting. The meeting will be held on Wednesday, September 3, 2008, from 6 p.m. to 9 p.m. at the Aurora Community Center at 15 West 1st Avenue North, Aurora, MN. The MnDNR, with assistance from the Corps will prepare and release to the public a Final SDD based upon the comments received during the scoping process. Significant issues and resources identified in the Final SDD will be addressed in the DEIS.

The DEIS will assess impacts of the proposed action and reasonable alternatives, identify and evaluate mitigation alternatives, and discuss potential environmental monitoring. Anyone who has an interest in participating in the development of the DEIS is invited to contact the St. Paul District, Corps of Engineers. Major issues identified to date for discussion in the DEIS are the impacts of the proposed project on:

1. Fish, wildlife, and ecologically sensitive resources.

2. Water resources, including: surface and groundwater resources; waters of the U.S., including wetlands; and receiving stream geomorphology.

3. Water quality, including: surface water runoff; and storm water management.

4. Air quality.

5. Cumulative impacts, including: wildlife habitat loss/fragmentation and habitat corridor obstruction/landscape barriers; wetlands in the Partridge River watershed; loss of threatened and endangered plant species; air quality in federally-administered Class I areas; air quality in Class II areas; water quality; streamflow and lake level changes; and socioeconomic impacts.

Additional issues of interest may be identified through the public scoping process. We anticipate that the DEIS will be available to the public in March of 2009.

Issuing a permit for the reopening of an open pit taconite mine and the construction and operation of a taconite ore concentration facility is considered to be a major Federal action that may have a significant impact on the quality of the human environment. The project: (1) would have a significant adverse effect on wetlands (which are special aquatic sites), and (2) has the potential to significantly affect water quality, groundwater, air quality, fish, and wildlife. Our environmental review will be conducted to meet the requirements of the National Environmental Policy Act of 1969, National Historic Preservation Act of 1966, Council of Environmental Quality Regulations, Endangered Species Act of 1973, Section 404 of the Clean Water Act, and other applicable laws and regulations.

Dated: August 7, 2008.
Jon L. Christensen,
Colonel, Corps of Engineers, District Engineer.

[FR Doc. E8-19164 Filed 8-18-08; 8:45 am]

BILLING CODE 3710-CY-P